DEPARTMENT OF ENERGY

Federal Energy Regulatory Commission

Combined Notice of Filings

Take notice that the Commission has received the following Natural Gas Pipeline Rate and Refund Report filings:

Filings Instituting Proceedings

Docket Numbers: RP16-863-000.

Applicants: Northwest Pipeline LLC.

Description: § 4(d) Rate Filing: NWP Non-Conforming Agreements—Cascade 100304 & 141193 to be effective 5/23/2016.

Filed Date: 4/21/16.

Accession Number: 20160421-5156.

Comments Due: 5 p.m. ET 5/3/16.

Docket Numbers: RP16-864-000.

Applicants: Columbia Gas Transmission, LLC.

Description: Compliance filing Modernization II Implementation Filing—RP16-314 to be effective 5/1/2016.

Filed Date: 4/22/16.

Accession Number: 20160422-5142.

Comments Due: 5 p.m. ET 5/4/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-608-001.

Applicants: ANR Pipeline Company.

Description: Compliance filing Compliance to Docket No. RP16-608-000 to be effective 4/1/2016.

Filed Date: 4/22/16.

Accession Number: 20160422-5007.

Comments Due: 5 p.m. ET 5/4/16.

Docket Numbers: RP16-657-001.

Applicants: Dominion Transmission, Inc.

Description: Compliance filing DTI—RP16-657 Nonconforming Service Agreement Compliance Filing to be effective 4/1/2016.

Filed Date: 4/22/16.

Accession Number: 20160422-5043.

Comments Due: 5 p.m. ET 5/4/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2016.
Nathaniel J. Davis, Sr.,
Deputy Secretary.

[FR Doc. 2016-10082 Filed 4-28-16; 8:45 am]

BILLING CODE 6717-01-P